DEPARTMENT OF HEALTH AND HUMAN SERVICES

[Document Identifier: OS-0990-0313]

Agency Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before October 22, 2018.

ADDRESSES: Submit your comments to Sherrette.Funn@hhs.gov or by calling (202) 795-7714.

FOR FURTHER INFORMATION CONTACT: When submitting comments or requesting information, please include the document identifier 0990-0313 and project title for reference, to Sherrette.funn@hhs.gov, or call the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: National Blood Collection & Utilization Survey (NBCUS).

Type of Collection: Reinstatement without change. OMB No. 0990-0313 [OS/OASH/OHAIDP].

Abstract: Length of request: 3 years. Respondents include hospitals that perform blood transfusions (approximately 2,900); hospitals that additionally perform blood donor collections (approximately 100), and large scale community-based blood collection centers (approximately 150). The NBCUS is performed once every two years. The NBCUS is a biennial survey of the blood collection and utilization community to produce reliable and accurate estimates of national and regional collections, utilization and safety of all blood products. The 2019 NBCUS is funded by Department of Health and Human Services (DHHS/OASH) and performed by the Centers for Disease Control and Prevention (CDC). The survey includes a core of standard questions on blood collection, processing, and utilization practices to allow for comparison with data from previous surveys. Additionally, questions to specifically address emerging and developing issues and technologies in blood collection and utilization are included. Questions on transfusion transmitted infections, transfusion associated circulatory overload, acute hemolysis, delayed hemolysis, and severe allergic reactions are included in the survey.

Annualized Burden Hour Table
Forms (if necessary) | Respondents (if necessary) | Number of respondents | Number of responses per respondents | Average burden per response | Total burden hours (every other year)
NBCUS | Hospitals | 3,000 | 1 | 1 | 3,000
NBCUS | Blood collection centers | 150 | 1 | 1 | 150
Total |  |  | 1 |  | 3,150

Date: August 17, 2018.
Terry Clark,
Office of the Secretary, Asst Paperwork Reduction Act Reports Clearance Officer.

[FR Doc. 2018-18130 Filed 8-21-18; 8:45 am]

BILLING CODE 4150-41-P